DEPARTMENT OF ENERGY

State Energy Advisory Board (STEAB); Meeting

AGENCY: Department of Energy, Energy Efficiency and Renewable Energy.

ACTION: Notice of open meeting.

SUMMARY: This notice announces a live open meeting of the State Energy Advisory Board (STEAB). The Federal Advisory Committee Act (Pub. L. 92-463; 86 Stat.770) requires that public notice of these meetings be announced in the Federal Register.

DATES: October 9, 2012; 9 a.m. to 5 p.m.

October 10, 2012; 9 a.m. to 5 p.m.

October 11, 2012; 9 a.m. to 12 p.m.

ADDRESSES: Hyatt Place Long Island/East End, 451 East Main Street, Riverhead, NY 11901.

FOR FURTHER INFORMATION CONTACT: Gil Sperling, STEAB Designated Federal Officer, U.S. Department of Energy, Office of Energy Efficiency and Renewable Energy, 1000 Independence Ave SW., Washington DC 20585. Telephone: (202) 287-1644.

SUPPLEMENTARY INFORMATION: Purpose of the Board: To provide advice and make recommendations to the Assistant Secretary for the Office of Energy Efficiency and Renewable Energy regarding goals and objectives, programmatic and administrative policies, and to otherwise carry out the Board's responsibilities as designated in the State Energy Efficiency Programs Improvement Act of 1990 (Pub. L. 101-440).

Tentative Agenda: Receive in person updates and reviews of accomplishment of STEAB's Subcommittee and Task Forces, meet with members of Brookhaven National Laboratory (BNL) and staff from the New York State Energy Research and Development Authority to discuss Laboratory and State collaborations and energy partnerships, new initiatives and technologies being created at the Laboratory, explore possible technology transfer programs, and meet with Laboratory employees to gain a better understanding of deployment efforts and ongoing initiatives, as well as update to the Board on routine business matters and other topics of interest.

Public Participation: The meeting is open to the public. Written statements may be filed with the Board either before or after the meeting. Members of the public who wish to make oral statements pertaining to agenda items should contact Gil Sperling at the address or telephone number listed above. Requests to make oral comments must be received five days prior to the meeting; reasonable provision will be made to include requested topic(s) on the agenda. The Chair of the Board is empowered to conduct the meeting in a fashion that will facilitate the orderly conduct of business.

Minutes: The minutes of the meeting will be available for public review and copying within 90 days on the STEAB Web site, www.steab.org.

Issued at Washington, DC on August 30, 2012.
LaTanya Butler,
Acting Deputy Committee Management Officer.

[FR Doc. 2012-22071 Filed 9-6-12; 8:45 am]

BILLING CODE 6450-01-P